DEPARTMENT OF HEALTH AND HUMAN SERVICES

Delegation of Authorities

Notice is hereby given that I have delegated to the Administrator, Centers for Medicare & Medicaid Services (CMS), or his or her successor, the authorities vested in the Secretary for two provisions of the Affordable Care Act, and the Health Insurance Portability and Accountability Act of 1996 (HIPAA) insofar as such provisions pertain to CMS' mission, as described in Section F.00 of CMS' Statement of Organization, Functions, and Delegations of Authority, last published at 55 FR 9363 (March 13, 1990).

Affordable Care Act

Title I—Quality, Affordable Health Care for All Americans

Subtitle B—Immediate Actions to Preserve and Expand Coverage

Section 1104(c)(1), (2), and (3)—The authorities pursuant to Section 1104(c)(1), (2), and (3) of the Affordable Care Act, as amended, to administer rules related to standards and associated operating rules, unique health plan identifiers, standards for electronic funds transfer, and a standard and a single set of associated operating rules for health claims attachments. These provisions relate to administrative simplification under Section 262 of HIPAA.

Title IX—Revenue Provisions

Subtitle A—Revenue Offset Provisions

Section 9008—The authorities pursuant to Section 9008 of the Affordable Care Act, as amended, related to the reporting requirements associated with the imposition of annual fee on branded prescription pharmaceutical manufacturers and importers.

Health Insurance Portability and Accountability Act of 1996

Section 203—The authorities pursuant to Section 203, as amended, pertaining to the Beneficiary Incentive Programs.

This delegation of authorities excludes the authority to issue regulations and to submit reports to Congress.

This delegation of authorities is effective immediately.

These authorities may be re-delegated.

These authorities shall be exercised under the Department's policy on regulations and the existing delegation of authority to approve and issue regulations.

I hereby affirm and ratify any actions taken by the Administrator, CMS, or his or her successor, which involved the exercise of the authorities for two provisions of the Affordable Care Act, and HIPAA delegated herein prior to the effective date of this delegation of authorities.

Authority: 44 U.S.C. 3101.

Dated: March 20, 2013.
Kathleen Sebelius,
Secretary.

[FR Doc. 2013-07139 Filed 3-26-13; 8:45 am]

BILLING CODE 4150-03-P